DEPARTMENT OF COMMERCE

Foreign-Trade Zones Board

[Order No. 1981]

Reorganization of Foreign-Trade Zone 175 Under Alternative Site Framework, Cedar Rapids, Iowa

Pursuant to its authority under the Foreign-Trade Zones Act of June 18, 1934, as amended (19 U.S.C. 81a-81u), the Foreign-Trade Zones Board (the Board) adopts the following Order:

Whereas, the Board adopted the alternative site framework (ASF) (15 CFR 400.2(c)) as an option for the establishment or reorganization of zones;

Whereas, the Cedar Rapids Airport Commission, grantee of Foreign-Trade Zone 175, submitted an application to the Board (FTZ Docket B-20-2014, docketed 3-6-2014) for authority to reorganize under the ASF with a service area of Appanoose, Benton, Blackhawk, Buchanan, Cedar, Clinton, Davis, Delaware, Des Moines, Dubuque, Grundy, Henry, Iowa, Jackson, Jefferson, Johnson, Jones, Keokuk, Lee, Linn, Louisa, Mahaska, Monroe, Muscatine, Poweshiek, Scott, Tama, Van Buren, Wapello, and Washington Counties, Iowa, adjacent to the Quad-Cities and Des Moines Customs and Border Protection ports of entry, FTZ 175's existing Site 1 would be categorized as a magnet site, and existing Site 2 would be removed from the zone;

Whereas, notice inviting public comment was given in the Federal Register (79 FR 13612, 3-11-2014) and the application has been processed pursuant to the FTZ Act and the Board's regulations; and,

Whereas, the Board adopts the findings and recommendation of the revised examiner's report, and finds that the requirements of the FTZ Act and the Board's regulations are satisfied if the service area is limited to Benton, Buchanan, Cedar, Clinton, Delaware, Johnson, Jones, Linn, Louisa, Muscatine and Scott Counties;

Now, Therefore, the Board hereby orders:

The application to reorganize FTZ 175 under the ASF is approved with a service area comprised of Benton, Buchanan, Cedar, Clinton, Delaware, Johnson, Jones, Linn, Louisa, Muscatine and Scott Counties, subject to the FTZ Act and the Board's regulations, including Section 400.13, and to the Board's standard 2,000-acre activation limit for the zone.

Signed at Washington, DC, this 8th day of May, 2015.
Ronald K. Lorentzen,
Acting Assistant Secretary of Commerce for Enforcement and Compliance, Alternate Chairman, Foreign-Trade Zones Board.
Andrew McGilvray,
Executive Secretary.

[FR Doc. 2015-11842 Filed 5-15-15; 8:45 am]

BILLING CODE 3510-DS-P